DEPARTMENT OF COMMERCE

National Oceanic and Atmospheric Administration

RIN 0649-XE898

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's Law Enforcement Committee (LEC).

DATES: The meeting will convene on Thursday, October 13, 2016; starting 8:30 a.m. and will adjourn at 5 p.m.

ADDRESSES: The meeting will be held at the JW Marriott New Orleans, located at 614 Canal Street, New Orleans, LA 70130; telephone: (504) 525-6500.

Council address: Gulf of Mexico Fishery Management Council, 2203 N. Lois Avenue, Suite 1100, Tampa, FL 33607; telephone: (813) 348-1630.

FOR FURTHER INFORMATION CONTACT: Mr. Steven Atran, Senior Fishery Biologist, Gulf of Mexico Fishery Management Council; steven.atran@gulfcouncil.org, telephone: (813) 348-1630, and Mr. Steve Vanderkooy, Inter-jurisdictional Fisheries Coordinator, Gulf States Marine Fisheries Commission; svanderkooy@gsmfc.org, telephone: (228) 875-5912.

SUPPLEMENTARY INFORMATION: The items of discussion on the agenda are as follows:

Thursday, October 13, 2016, 8:30 a.m.-5 p.m.

1. Welcome

2. LEC and LETC Voting Procedures

3. Adoption of Agenda

4. Election of GMFMC LETC Chair and Vice-chair

5. Election of GSMFC LEC Chair and Vice-chair

6. Approval of Minutes

a. Approval of minutes of March 16, 2016 Joint LEC/LETC meeting

Gulf Council LETC Items

7. Solicitation for Candidates for 2017 Officer of the Year Award

8. Draft Reef Fish Amendment 36A—Commercial IFQ Program Modifications

9. Draft Reef Fish Amendment 46—Gray Triggerfish Rebuilding Plan

10. Draft Generic Amendment to Require Electronic Reporting for For-hire Vessels

11. Draft Framework Action—Mutton Snapper ACL and Management Measures and Gag Commercial Size Limit

GSMFC LEC Items

12. Anthropocene Institute's Marine Managed Area Project

13. State Boundary and Jurisdictional Extensions

14. Approval of GSMFC Pubs

a. Strategic Plan 2017-2020

b. Operations Plan 2017-2018

15. IJF Program Activity

a. Tripletail

b. Atlantic Croaker

16. State Report Highlights

a. Florida

b. Alabama

c. Mississippi

d. Louisiana

e. Texas

f. USCG

g. NOAA OLE

h. USFWS

17. Other Business

—Meeting Adjourns—

The Agenda is subject to change. The latest version of the agenda along with other meeting materials will be posted on the Council's file server, which can be accessed by going to the Council Web site at http://www.gulfcouncil.org and clicking on File Server under Quick Links. For meeting materials see folder “LETC Meeting—2016-10” on Gulf Council file server. The username and password are both “gulfguest”.

The Law Enforcement Technical Committee consists of principal law enforcement officers in each of the Gulf States, as well as the NOAA Law Enforcement, U.S. Fish and Wildlife Service, the U.S. Coast Guard, and the NOAA General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under section 305(c) of the Magnuson-Stevens Fishery Conservation and Management Act, provided the public has been notified of the Council's intent to take action to address the emergency.

Dated: September 21, 2016.
Tracey Thompson,
Acting Director, Office of Sustainable Fisheries, National Marine Fisheries Service.

[FR Doc. 2016-23067 Filed 9-23-16; 8:45 am]

BILLING CODE 3510-22-P